DEPARTMENT OF TRANSPORTATION

Coast Guard

33 CFR Parts 100, 117 and 165

[USCG-2000-7757]

Safety Zones, Security Zones, Drawbridges and Special Local Regulations

AGENCY: Coast Guard, DOT.

ACTION: Notice of temporary rules issued.

SUMMARY: This document provides required notice of substantive rules adopted by the Coast Guard and temporarily effective between April 1, 2000 and June 30, 2000 which were not published in the Federal Register. This quarterly notice lists temporary local regulations, drawbridge regulations, security zones, and safety zones of limited duration and for which timely publication in the Federal Register was not possible.

DATES: This notice lists temporary Coast Guard regulations that became effective and were terminated between April 1, 2000 and June 30, 2000.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal holidays. You may electronically access the public docket for this notice on the Internet at http://dms.dot.gov.

FOR FURTHER INFORMATION CONTACT: For questions on this notice, contact Lieutenant Bruce Walker, Office of Regulations and Administrative Law, telephone (202) 267-6233. For questions on viewing, or on submitting material to the docket, contact Dorothy Beard, Chief, Dockets, Department of Transportation (202) 866-9329.

SUPPLEMENTARY INFORMATION: District Commanders and Captains of the Port (COTP) must be immediately responsive to the safety needs of the waters within their jurisdiction; therefore, District Commanders and COTPs have been delegated the authority to issue certain local regulations. Safety zones may be established for safety or environmental purposes. A safety zone may be stationary and described by fixed limits or it may be described as a zone around a vessel in motion. Security zones limit access to vessels, ports, or waterfront facilities to prevent injury or damage. Special local regulations are issued to enhance the safety of participants and spectators at regattas and other marine events. Timely publication of these regulations in the Federal Register is often precluded when a regulation responds to an emergency, or when an event occurs without sufficient advance notice. However, the affected public is informed of these regulations through Local Notices to Mariners, press releases, and other means. Moreover, actual notification is provided by Coast Guard patrol vessels enforcing the restrictions imposed by the regulation. Because mariners are notified by Coast Guard officials on-scene prior to enforcement action, Federal Register notice is not required to place the special local regulation, security zone, or safety zone in effect. However, the Coast Guard, by law, must publish in the Federal Register notice of substantive rules adopted. To meet this obligation without imposing undue expense to the public, the Coast Guard periodically publishes a list of these temporary special local regulations, security zones, and safety zones. Permanent regulations are not included in this list because they are published in their entirety in the Federal Register. Temporary regulations may also be published in their entirety if sufficient time is available to do so before they are placed in effect or terminated. The safety zones, special local regulations, drawbridge regulations and security zones listed in this notice have been exempted from review under Executive Order 12866 because of their emergency nature, or limited scope and temporary effectiveness.

The following regulations were placed in effect temporarily during the period April 1, 2000 and June 30, 2000, unless otherwise indicated.

Dated: September 12, 2000.
Christena G. Green,
Acting Chief, Office of Regulations and Administrative Law.

District Quarterly Report
District docket | Location | Type | Effective date
01-00-125 | Newton Creek, New York | Safety Zone | 05/28/2000
01-00-131 | Eastern Promenade, Portland ME | Safety Zone | 05/08/2000
01-00-136 | Hempstead Harbor, NY | Safety Zone | 05/27/2000
01-00-139 | Shinnecock Bay, Southampton, NY | Safety Zone | 06/30/2000
01-00-148 | Hull Chamber of Commerce Fireworks, Hull, MA | Safety Zone | 06/03/2000
01-00-150 | U.S.S. Maine Transit of the Piscataqua River | Safety Zone | 06/08/2000
01-00-155 | St. Peter's Fiesta Fireworks, Gloucester, MA | Safety Zone | 06/25/2000
05-00-012 | Eastern Chesapeake Bay, Wye River, MD | Security Zone | 04/26/2000
05-00-023 | U.S. Marine Corps Base, Camp Lejeune, NC | Safety Zone | 06/12/2000
05-00-024 | Chesapeake Bay Cape Henry, Virginia Beach, VA | Security Zone | 06/22/2000
07-00-010 | Miami Beach, FL | Special Local | 04/30/2000
07-00-028 | Fort Lauderdale, Broward County, FL | Drawbridge Operation | 05/06/2000
07-00-034 | Charlotte Amalie Harbor, St. Thomas USVI | Special Local Regs | 04/12/2000
07-00-039 | Caneel Bay, Saint John, USVI | Special Local | 04/27/2000
07-00-042 | Charlotte Amalie Harbor, Saint Thomas, USVI | Special Local | 04/30/2000
09-00-003 | Chicago Harbor, IL | Safety Zone | 04/30/2000
09-00-005 | Heritage Landing, Muskegon, MI | Safety Zone | 05/13/2000
09-00-006 | Lake Michigan, Holland, MI | Safety Zone | 05/06/2000
09-00-009 | Chicago, IL | Safety Zone | 05/20/2000
09-00-012 | Monroe St. Harbor, Lake Michigan, Chicago, IL | Safety Zone | 05/27/2000
09-00-017 | Black River South Heaven Michigan | Safety Zone | 06/17/2000
09-00-038 | Lake Macatawa Holland, Michigan | Safety Zone | 06/17/2000
09-00-039 | Hammond Marina, Hammond, IA | Safety Zone | 06/24/2000
13-00-003 | Willamette River, Portland, OR | Safety Zone | 05/05/2000
13-00-004 | Lake Washington, Renton, WA | Safety Zone | 05/13/2000
13-00-005 | Elliott Bay, WA | Safety Zone | 05/13/2000
13-00-006 | Willamette River, Portland, OR | Safety Zone | 06/01/2000
13-00-007 | Willamette River, Portland, OR | Safety Zone | 06/02/2000
13-00-009 | Lake Washington, WA | Safety Zone | 06/14/2000

COTP Quarterly Report
COTP Docket | Location | Type | Effective date
Corpus Christi 00-001 | Corpus Christi Ship Channel | Safety Zone | 06/10/2000
Guam 00-026 | Apra Harbor, Guam | Safety Zone | 06/21/2000
Houston-Galveston MSU 00-004 | Galveston Bay | Safety Zone | 04/16/2000
Houston-Galveston MSU 00-005 | Offatts Bayou | Safety Zone | 04/29/2000
Houston-Galveston MSU 00-006 | Deepwater Millenium, Freeport Channel | Safety Zone | 05/28/2000
Houston-Galveston MSU 00-007 | Deepwater Nautilus, Galveston Channel | Safety Zone | 06/07/2000
Huntiong 00-003 | Muskigum River, M. 0 to 3 | Safety Zone | 04/27/2000
Jacksonville 00-040 | Indian River, Titusville, FL | Safety Zone | 04/29/2000
Jacksonville 00-041 | Matanzas River, St. Augustine, FL | Safety Zone | 04/30/2000
Jacksonville 00-055 | St. Johns River, Green Cove Spring, FL | Safety Zone | 05/29/2000
LA/LB 00-003 | Middle Harbor-San Pedro Bay, CA | Safety Zone | 05/05/2000
LA/LB 00-004 | Pierpont Bay, Ventura, CA | Safety Zone | 06/04/2000
New Orleans 00-007 | LWR Mississippi River, M. 94 to 96 | Safety Zone | 04/15/2000
New Oreans 00-008 | Red River, M. 58.5 to 60.5 | Safety Zone | 04/25/2000
New Orleans 00-009 | LWR Mississippi River, M. 94 to 96 | Safety Zone | 05/07/2000
New Orleans 00-010 | LWR Mississippi River, M. 92 to 96 | Safety Zone | 05/20/2000
New Orleans 00-011 | Red River, M. 58.5 to 60.5 | Safety Zone | 05/20/2000
New Orleans 00-012 | Red River, M. 58.5 to 60.5 | Safety Zone | 05/21/2000
New Orleans 00-018 | Inner Harbor Navigation Canal | Safety Zone | 06/26/2000
Port Arthur 00-001 | Neches River Festival, Beaumont TX | Safety Zone | 04/29/2000
San Diego 00-001 | Colorado River | Safety Zone | 04/03/2000
San Diego 00-002 | Lake Moovalya, Colorado River, Parker, AZ | Safety Zone | 06/01/2000
San Diego 00-003 | Colorado River, AZ | Safety Zone | 04/16/2000
San Diego 00-004 | San Diego Bay, San Diego, CA | Safety Zone | 05/06/2000
San Diego 00-005 | Lake Moovalya Colorado River, Parker, AZ | Safety Zone | 05/06/2000
San Diego 00-006 | Lake Havasu, Colorado River, AZ | Safety Zone | 05/18/2000
San Francisco Bay 00-001 | San Francisco Bay, San Francisco, CA | Safety Zone | 04/11/2000
San Francisco Bay 00-002 | Oakland Inner Harbor, Oakland, CA | Safety Zone | 05/13/2000
San Juan 00-046 | San Juan Harbor, PR | Safety Zone | 05/06/2000
San Juan 00-052 | San Juan Harbor, PR | Safety Zone | 05/23/2000
Tampa 00-038 | Tampa Bay, Florida | Safety Zone | 04/16/2000
Tampa 00-043 | Tampa Bay, Florida | Safety Zone | 05/01/2000
Tampa 00-047 | South Gandy Channel, Tampa Bay, FL | Safety Zone | 05/06/2000
Western Alaska 00-003 | Port Graham, Cook Inlet, Alaska | Safety Zone | 06/13/2000

[FR Doc. 00-23974 Filed 9-18-00; 8:45 am]

BILLING CODE 4910-15-M